DEPARTMENT OF COMMERCE

National Oceanic and Atmospheric Administration

[I.D. 081804C]

North Pacific Fishery Management Council; Public Meetings

AGENCY: National Marine Fisheries Service (NMFS), National Oceanic and Atmospheric Administration (NOAA), Commerce.

ACTION: Notice of public meetings.

SUMMARY: The North Pacific Fishery Management Council's (NPFMC) Gulf of Alaska (GOA) and Bering Sea/Aleutian Islands (BS/AI) groundfish plan teams will meet in Seattle, WA.

DATES: The meetings will be held on September 15-17, 2004. The meetings will begin at 1 p.m. on Wednesday, September 15, and continue through Friday September 17.

ADDRESSES: The meetings will be held at the Alaska Fisheries Science Center, 7600 Sand Point Way NE., Building 4, Room 1055 (BS/AI Plan Team) and Room 2076 (GOA Plan Team), Seattle, WA.

Council address: North Pacific Fishery Management Council, 605 W. 4th Ave., Suite 306, Anchorage, AK 99501-2252.

FOR FURTHER INFORMATION CONTACT: Jane DiCosimo, Diana Stram, NPFMC; telephone: 907-271-2809.

SUPPLEMENTARY INFORMATION: Principal business is to review: Draft Economic Stock Assessment Fishery Evaluation (SAFE) Report, draft Ecosystems Consideration Chapter, draft Ecosystem Assessment, draft stock assessments for target-categories, and recommend preliminary specifications for 2005/06.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the NPFMC's intent to take final action to address the emergency.

Special Accommodations

These meetings are physically accessible to people with disabilities. Requests for sign language interpretation or other auxiliary aids should be directed to Gail Bendixen, 907-271-2809, at least 5 working days prior to the meeting date.

Dated: August 19, 2004.
Alan D. Risenhoover,
Acting Director, Office of Sustainable Fisheries, National Marine Fisheries Service.

[FR Doc. E4-1884 Filed 8-23-04; 8:45 am]

BILLING CODE 3510-22-S